NATIONAL SCIENCE FOUNDATION

Sunshine Act Meeting

The National Science Board's Committee on Strategy and Committee on Oversight hereby give notice of the scheduling of a videoconference for the transaction of National Science Board business pursuant to the National Science Foundation Act and the Government in the Sunshine Act.

TIME AND DATE: Wednesday, February 8, 2023, from 2:00-3:00 p.m. EST.

PLACE: This meeting will be held in person at NSF headquarters at 2415 Eisenhower Ave., Alexandria, VA 22314, and by videoconference through the National Science Foundation.

STATUS: Closed.

MATTERS TO BE CONSIDERED: The agenda of the teleconference is: Committee on Oversight Chair's remarks; Committee on Strategy Chair's remarks; Presentation and discussion of NSF's FY 2022 Annual Performance Plan and Report (APPR).

CONTACT PERSON FOR MORE INFORMATION: Point of contact for this meeting is: Kathy Jacquart, kjaquar@nsf.gov (703) 292-7000. Meeting information and updates may be found at www.nsf.gov/nsb.

Christopher Blair,
Executive Assistant to the National Science Board Office.

[FR Doc. 2023-02565 Filed 2-2-23; 4:15 pm]

BILLING CODE 7555-01-P